DEPARTMENT OF AGRICULTURE

Agricultural Marketing Service

[Document No. AMS-TM-16-0030]

Transportation and Marketing Program; Notice of Extension and Request for Revision of a Currently Approved Information Collection and To Merge the Collections of 0581-0235 Farmers Market Promotion Program, 0581-0240 Federal-State Market Improvement Program, 0581-0248 Specialty Crop Block Grant Program-Farm Bill, Specialty Crop Multi-State Program, and 0581-0287 Local Food Promotion Program

AGENCY: Agricultural Marketing Service, USDA.

ACTION: Notice and request for comments.

SUMMARY: In accordance with the Paperwork Reduction Act of 1995 (44 U.S.C. 3501-20), this notice announces the Agricultural Marketing Service's (AMS) intention to request Office of Management and Budget approval of a revised information collection that combined four previously approved collections into a single information collection. AMS recently consolidated its grant programs into one Grants Division. Due to this consolidation, AMS intends to combine the following collections, 0581-0235 “Farmers Market Promotion Program,” 0581-0240 “Federal-State Market Improvement Program,” 0581-0248 “Specialty Crop Block Grant Program-Farm Bill,” “Specialty Crop Multi-State Program,” and 0581-0287 “Local Food Promotion Program.” This revised collection will be retitled 0581-0240 “AMS Grant Programs,” and increase efficiency among programs and reduce the burden on the public.

DATES: Comments on this notice must be received by June 27, 2016 to be assured of consideration.

ADDRESSES: AMS Transportation and Marketing Program, 1400 Independence Avenue SW., Stop 0264, Washington, DC 20250-0264.

FOR FURTHER INFORMATION CONTACT: Trista Etzig, Grants Division Director; Telephone: (202) 720-8356; Email: Trista.Etzig@ams.usda.gov.

SUPPLEMENTARY INFORMATION:

Title: AMS Grant Programs.

OMB Number: 0581-0240.

Expiration Date of Approval: 9/30/2016.

Type of Request: Extension, revision, and consolidation of currently approved information collection.

Abstract: AMS grant programs (Farmers' Market and Local Food Promotion Program (FMLFPP), Specialty Crop Block Grant Program (SCBGP), Specialty Crop Multi-State Program (SCMP), and Federal-State Marketing Improvement Program (FSMIP)) are authorized pursuant to the Agricultural Marketing Act of 1946 (AMA) (7 U.S.C. 1621, et seq.) and the Farmer-to-Consumer Direct Marketing Act of 1976 (FCDMA) (7 U.S.C. 3001) and are implemented through the Uniform Administrative Requirements, Cost Principles, and Audit Requirements for Federal Awards (Super Circular) (2 CFR 200). Recently, AMS consolidated the management of its grant programs into one Grants Division to streamline and standardize processes and procedures for the programs, which includes the need to consolidate the information collection requirements for each grant program.

The Farmers' Market Promotion Program (FMPP) and Local Food Promotion Program (LFPP) are components of the “Farmers' Market and Local Food Promotion Program (FMLFPP).” FMPP was created through an amendment of the Farmer-to-Consumer Direct Marketing Act of 1976 (7 U.S.C. 3001-3006). The Agriculture Act of 2014 (Pub. L. 113-79) (2014 Farm Bill) further amended the Farmer-to-Consumer Direct Marketing Act of 1976 (7 U.S.C. 3005) by expanding and renaming the FMPP to FMLFPP. For fiscal years 2014-2018, the 2014 Farm Bill provides $30 million in funding for the FMLFPP. On an annual basis, approximately $15 million will be made available for farmer-to-consumer direct marketing projects under the FMPP component of FMLFPP, and approximately $15 million will be made available for local and regional food business enterprise projects under the LFPP component of FMLFPP. The grants authorized by the FMPP are targeted to help improve and expand domestic farmers' markets, roadside stands, community-supported agriculture programs, agritourism activities, and other direct producer-to-consumer marketing opportunities. The grants authorized under the LFPP support the development and expansion of local and regional food business enterprises to increase domestic consumption of, and access to, locally and regionally produced agricultural products, and to develop new market opportunities for farm and ranch operations serving local markets.

The Specialty Crop Block Grant Program (SCBGP) operates pursuant to the authority of Section 101 of the Specialty Crops Competitiveness Act of 2004 (7 U.S.C. 1621 note); amended by Section 10010 of the Agriculture Act of 2014 (2014 Farm Bill). Pursuant to 7 U.S.C. 1621 note, the Secretary of Agriculture has the authority to “make grants to States for each of the fiscal years 2014 through 2018 to be used by State departments of agriculture solely to enhance the competitiveness of specialty crops.” The SCBGP works to increase the competitiveness of specialty crops. The 2014 Farm Bill made mandatory outlays for fiscal years 2014 through 2017 in the amount of $72.5 million, and $85 million in 2018. The Specialty Crop Multi-State Program (SCMP) also operates pursuant to the authority of Section 101 of the Specialty Crops Competitiveness Act of 2004 (7 U.S.C. 1621 note); amended by Section 10010 of the Agriculture Act of 2014 (2014 Farm Bill). The Specialty Crop Competitiveness Act provides the Secretary authority to make available funds for “making grants to multistate projects.” The 2014 Farm Bill made outlays available for fiscal years 2014 through 2018 in the amount of $1 million for the first year, and increasing by $1 million for each subsequent year so that $5 million will be available in 2018.

The Federal-State Marketing Improvement Program (FSMIP) operates pursuant to the authority of the AMA. Section 204(b) of the AMA (7 U.S.C. 1623(b)) authorizes the Secretary of Agriculture to make available funds to State Departments of Agriculture, State bureaus and departments of markets, State agricultural experiment stations, and other appropriate State agencies for cooperative projects in marketing services and in marketing research to effectuate the purposes of title II of the Agricultural Marketing Act of 1946. FSMIP provides matching funds on a competitive basis to assist eligible entities in exploring new market opportunities for U.S. food and agricultural products and to encourage research and innovation aimed at improving the efficiency and performance of the marketing system. AMS has been allocated approximately $1 million in fiscal years 2013, 2014, and 2015 for FSMIP; and it is anticipated that funding will remain at or near this level for fiscal years 2016 and 2017.

Because these are all voluntary programs, respondents request or apply for the specific grant program they select, and in doing so, they provide information. The Agency is the primary user of the information. The information collected is needed to certify that grant participants are complying with applicable program regulations, and the data collected is the minimum information necessary to effectively carry out the requirements of the program. The information collection requirements in this request are essential to carry out the intent of the AMA, to provide the respondents the type of service they request, and to administer the programs. The burden of the AMS Grant Programs is as follows:

Combined Burden for AMS Grant Programs

Estimate of Burden: 2.59.

Respondents: Agricultural Cooperatives, Agriculture Business Entities; Community Supported Agriculture Networks or Associations; Producer Networks or Associations; Local and Tribal Governments; Nonprofit Corporations; Public Benefit Corporations; Economic Development Corporations; Regional Farmers' Market Authorities; State departments of agriculture; State agricultural experiment stations; and other appropriate State Agencies.

Estimated Number of Respondents: 1,866.

Estimated Total Annual Responses: 20,230.

Estimated Number of Responses per Respondent: 10.84.

Estimated Total Annual Burden on Respondents: 52,413.11.

0581-0235: Farmers' Market Promotion Program

Estimate of Burden: 2.73.

Respondents: Agricultural Cooperatives, Producer Networks, or Producer Associations; Local Governments; Nonprofit Corporations; Public Benefit Corporations; Economic Development Corporations; Regional Farmers' Market Authorities; and Tribal Governments.

Estimated Number of Respondents: 750.

Estimated Total Annual Responses: 7,470.

Estimated Number of Responses per Respondent: 9.96.

Estimated Total Annual Burden on Respondents: 20,391.27.

0581-0240: Federal-State Market Improvement Program

Estimate of Burden: 2.29.

Respondents: State departments of agriculture; State agricultural experiment stations; and other appropriate State Agencies.

Estimated Number of Respondents: 70.

Estimated Total Annual Responses: 1,018.

Estimated Number of Responses per Respondent: 14.54.

Estimated Total Annual on Respondents: 2,328.01.

0581-0248: Specialty Crop Block Grant Program-Farm Bill

Estimate of Burden: 3.30.

Respondents: State departments of agriculture.

Estimated Number of Respondents: 56.

Estimated Total Annual Responses: 616.

Estimated Number of Responses per Respondent: 11.

Estimated Total Annual Burden on Respondents: 2,030.

Specialty Crop Multi-State Program-New Segment of SCBGP

Estimate of Burden: 2.24.

Respondents: State departments of agriculture.

Estimated Number of Respondents: 240.

Estimated Total Annual Responses: 2,906.

Estimated Number of Responses per Respondent: 12.11.

Estimated Total Annual Burden on Respondents: 6,522.56.

0581-0287: Local Food Promotion Program

Estimate of Burden: 2.57.

Respondents: Agricultural Cooperatives, Agriculture Business Entities; Community Supported Agriculture Networks or Associations; Producer Networks or Associations; Local and Tribal Governments; Nonprofit Corporations; Public Benefit Corporations; Economic Development Corporations; and Regional Farmers' Market Authorities.

Estimated Number of Respondents: 750.

Estimated Total Annual Responses: 8,220.

Estimated Number of Responses per Respondent: 10.96.

Estimated Total Annual Burden on Respondents: 21,141.27.

Comments are invited on: (1) Whether the new collection of information is necessary for the proper performance of the functions of the agency, including whether the information will have practical utility; (2) the accuracy of the agency's estimate of the burden of the new collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: April 20, 2016.
Elanor Starmer,
Administrator, Agricultural Marketing Service.

[FR Doc. 2016-09612 Filed 4-25-16; 8:45 am]

BILLING CODE 3410-02-P